EQUAL EMPLOYMENT OPPORTUNITY COMMISSION

Agency Information Collection Activities; Comment Request

AGENCY: Equal Employment Opportunity Commission.

ACTION: Final notice of information collection under review; ADEA waivers.

SUMMARY: In accordance with the Paperwork Reduction Act of 1995 (PRA), the Equal Employment Opportunity Commission (EEOC or Commission) gives notice that it has submitted to the Office of Management and Budget (OMB) a request for extension without change of the information collection described below. No public comments were received in response to the EEOC's May 5, 2020 60 day notice soliciting comments on the proposed extension of this collection.

DATES: Written comments on this notice must be submitted on or before August 12, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kathleen Oram, Assistant Legal Counsel, (202) 663-4668, or Savannah Marion Felton, Senior Attorney, (202) 663-4909, Office of Legal Counsel, 131 M Street NE, Washington, DC 20507. Requests for this notice in an alternative format should be made to the Office of Communications and Legislative Affairs at 1-800-669-4000 (voice), 1-800-669-6820 (TTY), or 1-800-234-5122 (ASL Video Phone).

SUPPLEMENTARY INFORMATION:

Overview of This Information Collection

Collection Title: Waivers of Rights and Claims Under the ADEA; Informational Requirements.

OMB Number: 3046-0042.

Type of Respondent: Business, state or local governments, not for profit institutions.

Description of Affected Public: Any employer with 20 or more employees that seeks waiver agreements in connection with an exit incentive or other employment termination program.

Number of Respondents: 2,425.

Burden Hours per Respondent: 16.19 hours.

Total Annual Burden Hours: 39,260.75.

Number of Forms: None.

Abstract: The EEOC enforces the Age Discrimination in Employment Act (ADEA) which prohibits discrimination against employees and applicants for employment who are age 40 or older. The Older Workers Benefit Protection Act (OWBPA), enacted in 1990, amended the ADEA to require employers to disclose certain information to employees (but not to the EEOC) in writing when they ask employees to waive their rights under the ADEA in connection with an exit incentive program or other employment termination program. The regulation at 29 CFR 1625.22 reiterates those disclosure requirements. The EEOC seeks an extension without change for the third-party disclosure requirements contained in this regulation. On May 5, 2020, the Commission published a 60-Day Notice informing the public of its intent to request an extension of the information collection requirements from the Office of Management and Budget. 85 FR 26687-89 (May 5, 2020). No comments were received.

For the Commission.
Janet Dhillon,
Chair.

[FR Doc. 2020-15026 Filed 7-10-20; 8:45 am]

BILLING CODE 6570-01-P